POSTAL SERVICE

Sunshine Act Meeting; Temporary Emergency Committee of the Board of Governors

DATES AND TIMES: October 28, 2016 at 1:30 p.m.

PLACE: Washington, DC, via Teleconference.

STATUS: Committee Votes to Close October 28, 2016, Meeting: By telephone vote on October 28, 2016, members of the Temporary Emergency Committee of the Board of Governors of the United States Postal Service met and voted unanimously to close to public observation its meeting held in Washington, DC, via teleconference. The Committee determined that no earlier public notice was possible.

MATTERS CONSIDERED:

Friday, October 28, 2016 at 1:30 p.m.

1. Pricing.

GENERAL COUNSEL CERTIFICATION: The General Counsel of the United States Postal Service has certified that the meeting was properly closed under the Government in the Sunshine Act.

CONTACT PERSON FOR MORE INFORMATION: Julie S. Moore, Secretary of the Board, U.S. Postal Service, 475 L'Enfant Plaza SW., Washington, DC 20260-1000, telephone (202) 268-4800.

Julie S. Moore,
Secretary, Board of Governors.

[FR Doc. 2016-26895 Filed 11-3-16; 11:15 am]

BILLING CODE 7710-12-P